DEPARTMENT OF ENERGY

Federal Energy Regulatory Commission

Combined Notice of Filings #2

Take notice that the Commission received the following exempt wholesale generator filings:

Docket Numbers: EG19-115-000.

Applicants: Canadian Breaks LLC.

Description: Self-Certification of Exempt Wholesale Generator Status of Canadian Breaks LLC.

Filed Date: 5/17/19.

Accession Number: 20190517-5147.

Comments Due: 5 p.m. ET 6/7/19.

Take notice that the Commission received the following electric rate filings:

Docket Numbers: ER15-762-013.

Applicants: Sierra Solar Greenworks LLC.

Description: Compliance filing: Sierra Solar Greenworks MBR Tariff to be effective 5/18/2019.

Filed Date: 5/17/19.

Accession Number: 20190517-5180.

Comments Due: 5 p.m. ET 6/7/19.

Docket Numbers: ER15-2680-009.

Applicants: Sandstone Solar LLC.

Description: Compliance filing: Sandstone Solar LLC MBR Tariff to be effective 5/18/2019.

Filed Date: 5/17/19.

Accession Number: 20190517-5129.

Comments Due: 5 p.m. ET 6/7/19.

Docket Numbers: ER16-890-008.

Applicants: Summer Solar LLC.

Description: Compliance filing: Summer Solar MBR Tariff to be effective 5/18/2019.

Filed Date: 5/17/19.

Accession Number: 20190517-5134.

Comments Due: 5 p.m. ET 6/7/19.

Docket Numbers: ER16-1609-003.

Applicants: ID SOLAR 1, LLC.

Description: Compliance filing: ID Solar 1 MBR Tariff to be effective 5/18/2019.

Filed Date: 5/17/19.

Accession Number: 20190517-5179.

Comments Due: 5 p.m. ET 6/7/19.

Docket Numbers: ER16-1956-007.

Applicants: Western Antelope Dry Ranch LLC.

Description: Compliance filing: Western Antelope Dry Ranch MBR Tariff to be effective 5/18/2019.

Filed Date: 5/17/19.

Accession Number: 20190517-5138.

Comments Due: 5 p.m. ET 6/7/19.

Docket Numbers: ER16-2224-006.

Applicants: Solverde 1, LLC.

Description: Compliance filing: Solverde 1, LLC MBR Tariff to be effective 5/18/2019.

Filed Date: 5/17/19.

Accession Number: 20190517-5133.

Comments Due: 5 p.m. ET 6/7/19.

Docket Numbers: ER19-832-001.

Applicants: Duke Energy Florida, LLC.

Description: Compliance filing: DEF-Notice of Cancellation (ER19-832) eTariff Metadata Compliance Filing to be effective 11/1/2015.

Filed Date: 5/17/19.

Accession Number: 20190517-5156.

Comments Due: 5 p.m. ET 6/7/19.

Docket Numbers: ER19-847-001.

Applicants: San Pablo Raceway, LLC.

Description: Compliance filing: San Pablo Raceway MBR Tariff to be effective 5/18/2019.

Filed Date: 5/17/19.

Accession Number: 20190517-5125.

Comments Due: 5 p.m. ET 6/7/19.

Docket Numbers: ER19-1402-000.

Applicants: Coyote Ridge Wind, LLC.

Description: Report Filing: Supplement to Application for Market-Based Rate Authority to be effective N/A.

Filed Date: 5/17/19.

Accession Number: 20190517-5112.

Comments Due: 5 p.m. ET 5/28/19.

Docket Numbers: ER19-1892-000.

Applicants: Midcontinent Independent System Operator, Inc., Ameren Illinois Company.

Description: § 205(d) Rate Filing: 2019-05-17_SA 3028 Ameren IL-Prairie Power Project #14 Pleasant View to be effective 4/18/2019.

Filed Date: 5/17/19.

Accession Number: 20190517-5148.

Comments Due: 5 p.m. ET 6/7/19.

Docket Numbers: ER19-1893-000.

Applicants: Dominion Energy South Carolina, Inc.

Description: § 205(d) Rate Filing: VCS Transmission Agr Between SCE&G and SCPSA to be effective 7/17/2019.

Filed Date: 5/17/19.

Accession Number: 20190517-5155.

Comments Due: 5 p.m. ET 6/7/19.

Docket Numbers: ER19-1894-000.

Applicants: Pacific Gas and Electric Company.

Description: Tariff Cancellation: Notice of Termination of Capetown Wind Farm E&P Agreement to be effective 5/15/2019.

Filed Date: 5/17/19.

Accession Number: 20190517-5157.

Comments Due: 5 p.m. ET 6/7/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 17, 2019.
Nathaniel J. Davis, Sr.,
Deputy Secretary.

[FR Doc. 2019-10879 Filed 5-23-19; 8:45 am]

BILLING CODE 6717-01-P